DEPARTMENT OF TRANSPORTATION

[PHMSA-2008-0213 Empire Pipeline, Inc.]

Pipeline Safety; Request for Special Permit

AGENCY: Pipeline and Hazardous Materials Safety Administration (PHMSA), Transportation.

ACTION: Notice.

SUMMARY: PHMSA is publishing this notice to seek public comments on a request for special permit, seeking relief from compliance with certain requirements in the federal pipeline safety regulations. At the conclusion of the 30-day comment period, PHMSA will review the comments received from this notice as part of its evaluation to grant or deny the special permit request.

DATES: Submit any comments regarding this special permit request by December 5, 2016.

ADDRESSES: Comments should reference Docket No. PHMSA-2008-0213 and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Ms. Kay McIver by telephone at 202-366-0113, or email at kay.mciver@dot.gov.

Technical: Mr. Steve Nanney by telephone at 713-628-7479, or email at Steve.Nanney@dot.gov.

SUPPLEMENTARY INFORMATION: PHMSA has received a special permit request from a pipeline operator seeking relief from compliance with certain federal pipeline safety regulations. The request includes a technical analysis and draft Environmental Analysis (EA), provided by the operator and has been filed at www.Regulations.gov, in Docket No. PHMSA-2008-0213. PHMSA invites interested persons to participate by reviewing this special permit request and draft EA at http://www.Regulations.gov, and by submitting written comments, data or other views. Please include any comments on potential safety and environmental impacts that may result if the special permit is granted.

Before issuing a decision on this special permit request, PHMSA will evaluate all comments received on or before the comment closing date. Comments will be evaluated after this date if it is possible to do so without incurring additional expense or delay. PHMSA will consider each relevant comment we receive in making our decision to grant or deny the request.

PHMSA has received the following special permit request:

Docket No. | Requester | Regulation(s) | Nature of special permit
PHMSA-2008-0213 | Empire Pipeline, Inc., also referred to as Empire State Pipeline (Empire) | 49 CFR 192.611 | To authorize Empire to include approximately 1,055 feet of 24-inch diameter, 0.257-inch and 0.370-inch wall thickness Grade X-65, (14-mil Encoat fusion-bonded epoxy coated HFERW pipe, manufactured by Stupp Corporation, Baton Rouge, Louisiana) pipeline, as part of the existing special permit originally issued to Empire on May 20, 2010, and renewed on May 20, 2015. Special permit Segment 6 is located approximately 1,190 feet west of the Erie Canal crossing, between mile posts (MP) 99.13 and MP 99.33, in the Town of Macedon, Wayne County, New York.
|  |  | The Empire pipeline has two maximum allowable operating pressure (MAOP) sections. The existing five Special Permit Segments are all located along the western, 1,440 psig MAOP section. Special Permit Segment 6 is sought with respect to one segment of an approximate length of 1,055 feet located in the 1,000 psig MAOP section.
|  |  | Segment 6 was originally classified and designed for a Class 1 location. Construction of a recreational vehicle campground within 100 yards of the pipeline resulted in a class location change of the area from Class 1 to Class 3, as of November 20, 2015.
|  |  | The inclusion of Segment 6 into the current special permit will allow Empire to continue the operation of this segment at its current MAOP of 1,000 psig.

Issued in Washington, DC, on October 31, 2016, under authority delegated in 49 CFR 1.97.
Linda Daugherty,
Deputy Associate Administrator for Field Operations.

[FR Doc. 2016-26565 Filed 11-2-16; 8:45 am]

BILLING CODE 4910-60-P